DEPARTMENT OF HOUSING AND URBAN DEVELOPMENT

[Docket No. FR-4655-N-25]

Notice of Proposed Information Collection: Comment Request; Application and Re-certification Procedures for FHA Inspectors

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: February 26, 2002.

ADDRESSES: Interested persons are invited to submit comments regarding this proposal. Comments should refer to the proposal by name and/or OMB Control Number and should be sent to: Wayne Eddins, Reports Management Officer, Department of Housing and Urban Development, 451 7th Street, SW, L'Enfant Building, Room 8202, Washington, DC 20410.

FOR FURTHER INFORMATION CONTACT: Vance T. Morris, Director, Office of Single Family Program Development, Department of Housing and Urban Development, 451—7th Street SW, Washington, DC 20410, telephone (202) 708-5221, (this is not a toll-free number), for copies of the proposed forms and other information.

SUPPLEMENTARY INFORMATION: The Department is submitting the proposed information collection to OMB for review, as required by the paperwork Reduction Act of 1995 (44 U.S.C. Chapter 35, as amended).

This Notice is soliciting comments from members of the public and affected agencies concerning the proposed collection of information to: (1) Evaluate whether the proposed collection is necessary for the proper performance of the functions of the agency, including whether the information will have practical utility, (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Application and Re-certification Procedures for FHA Inspectors.

OMB Control Number, if applicable: None.

Description of the need for the information and proposed use: This is a new information collection, which includes the use of a previously approved form, Form HUD-92563. The information collection is essential to the Department's efforts to ensure that compliance inspectors who determine if the quality of construction of property accepted as security for FHA insured loans possess the prerequisite knowledge and skills to make these determinations. The Department also wishes to standardize this procedure throughout the country. Inspectors seeking to be placed on FHA's Inspection roster must submit an application to be considered acceptable as an inspector in HUD's single family housing programs. The uses of qualified compliance inspectors are viewed as critical to minimizing the placement of FHA mortgage insurance on poorly constructed dwellings.

Agency form numbers, if applicable: Form HUD-92563.

Estimation of the total number of hours needed to prepare the information collection including number of respondents, frequency of response, and hours of response: The estimated number of respondents are estimated to be 3,000, an average of 5,250 annual burden hours are estimated, and the frequency of responses is estimated to be once.

Status of the proposed information collection: This is a new information collection for which OMB approval is requested.

Authority: The Paperwork Reduction act of 1995, 44 U.S.C. 35, as amended.

Dated: December 12, 2001.
John C. Weicher,
Assistant Secretary for Housing-Federal Housing Commissioner.

[FR Doc. 01-31881 Filed 12-27-01; 8:45 am]

BILLING CODE 4210-27-M